DEPARTMENT OF COMMERCE

Census Bureau

Agency Information Collection Activities; Submission to the Office of Management and Budget (OMB) for Review and Approval; Comment Request; U.S. Census—Age Search

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension, of U.S. Census—Age Search, prior to the submission of the information collection request (ICR) to OMB for approval.

DATES: To ensure consideration, comments regarding this proposed information collection must be received on or before February 28, 2022.

ADDRESSES: Interested persons are invited to submit written comments by email to deborah.johnson@census.gov. Please reference U.S. Census—Age Search in the subject line of your comments. You may also submit comments, identified by Docket Number USBC-0607-0117, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Debbie Johnson, Chief, Fiscal Services Office, National Processing Center. Ms. Johnson can be reached by telephone on 812-218-3053 or by email at deborah.johnson@census.gov.

SUPPLEMENTARY INFORMATION:

I. Abstract

The Census Bureau proposes an extension of the Age Search Service Program. The Age Search is a service provided by the U.S. Census Bureau for persons who need official transcripts of personal data as proof of age for pensions, retirement plans, Medicare, and Social Security. The transcripts are also used as proof of citizenship to obtain passports or to provide evidence of family relationship for rights of inheritance. The Age Search forms are used by the public in order to provide the Census Bureau with the necessary information to conduct a search of historical population decennial census records in order to provide the requested transcript. The Age Search service is self-supporting and is funded by the fees collected from the individuals requesting the service.

II. Method of Collection

The Form BC-600, Application for Search of Census Records, is a paper public-use form that is submitted by applicants requesting information from the decennial census records. This application form is available online in PDF format for individuals to download and complete. Applicants must enclose the appropriate fee by check or money order with the completed and signed Form BC-600 or BC-600(SP) and return by mail to the U.S. Census Bureau, Post Office Box 1545, Jeffersonville, Indiana 47131.

The Form BC-649 (L), which is called a Not Found Letter, advises the applicant that the search for information from the census records was unsuccessful. The BC-658 (L) is sent to the applicant when insufficient information has been received on which to base a search of the census records. These two forms request additional information from the applicant to aid in the search of census records.

III. Data

OMB Control Number: 0607-0117.

Form Number(s): BC-600, BC-600(SP), BC-649(L), and BC-658(L).

Type of Review: Regular submission, Request for an Extension.

Affected Public: Individuals or households.

Estimated Number of Respondents: Total 2,885 respondents.

BC-600 2,426 respondents

BC-649(L) 449 respondents

BC-658(L) 10 respondents

Estimated Time Per Response:

BC-600 12 minutes

BC-649(L) 6 minutes

BC-658(L) 6 minutes

Estimated Total Annual Burden Hours: 531 hours.

Estimated Total Annual Cost to Public: $167,394. The Age Search processing fee is $65.00 per case. An additional charge of $20 per case for expedited requests requiring results within one day is also available. It is expected that 485 individuals will request the expedited service.

Respondent's Obligation: Voluntary.

Legal Authority: Title 13 U.S.C., section 8.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-28165 Filed 12-27-21; 8:45 am]

BILLING CODE 3510-07-P